DEPARTMENT OF TRANSPORTATION

National Highway Traffic Safety Administration

[Docket No. NHTSA-2016-0140; Notice 2]

General Motors, LLC, Grant of Petition for Decision of Inconsequential Noncompliance

AGENCY: National Highway Traffic Safety Administration (NHTSA), Department of Transportation (DOT).

ACTION: Grant of petition.

SUMMARY: General Motors, LLC (GM), has determined that certain model year (MY) 2014-2016 GM motor vehicles do not fully comply with Federal Motor Vehicle Safety Standard (FMVSS) No. 110, Tire Selection and Rims and Motor Home/Recreation Vehicle Trailer Load Carrying Capacity Information for Motor Vehicles with a GVWR of 4,536 kilograms (10,000 pounds)or Less. GM filed a noncompliance Report dated December 6, 2016, and then amended their report on April 7, 2017. GM subsequently petitioned NHTSA on January 5, 2017, and later revised it on April 7, 2017, for a decision that the subject noncompliance is inconsequential as it relates to motor vehicle safety.

FOR FURTHER INFORMATION CONTACT: Kerrin Bressant, Office of Vehicle Safety Compliance, NHTSA, telephone (202) 366-1110, facsimile (202) 366-5930.

SUPPLEMENTARY INFORMATION: I. Overview: GM has determined that certain MY 2014-2016 GM motor vehicles do not fully comply with paragraph S4.4.2(e) of FMVSS No. 110, Tire Selection and Rims and Motor Home/Recreation Vehicle Trailer Load Carrying Capacity Information for Motor Vehicles with a GVWR of 4,536 kilograms (10,000 pounds)or Less (49 CFR 571.110). GM filed a noncompliance report dated December 6, 2016, and then amended their report on April 7, 2017, pursuant to 49 CFR part 573, Defect and Noncompliance Responsibility and Reports. GM subsequently petitioned NHTSA on January 5, 2017, and later revised it on April 7, 2017, pursuant to 49 U.S.C. 30118(d) and 30120(h) and 49 CFR part 556, for an exemption from the notification and remedy requirements of 49 U.S.C. Chapter 301 on the basis that this noncompliance is inconsequential as it relates to motor vehicle safety.

Notice of receipt of the petition was published, with a 30-day public comment period on May 11, 2017, in the Federal Register (82 FR 22058). No comments were received. To view the petition and all supporting documents log onto the Federal Docket Management System (FDMS) web page at: http://www.regulations.gov/. Then follow the online search instruction to locate docket number “NHTSA-2016-0140.”

II. Vehicles Involved: Approximately 130,088 of the following MY 2014-2016 GM motor vehicles manufactured between August 7, 2014, and June 15, 2015, are potentially involved:

• 2015-2016 Cadillac Escalade

• 2015-2016 Cadillac Escalade ESV

• 2015 Cadillac SRX

• 2015-2016 Chevrolet Tahoe

• 2015-2016 GMC Yukon

• 2015-2016 GMC Yukon XL

• 2014-2015 GMC Sierra

• 2014-2015 Chevrolet Silverado

• 2015-2016 Chevrolet Suburban

III. Noncompliance: GM explains that the noncompliance is that the subject vehicles are equipped with wheels supplied by Citic Dicastal Co. LTD (Dicastal) that are marked with unregistered date of manufacture marks that were not previously disclosed to NHTSA and therefore, do not comply with paragraph S4.4.2(e) of FMVSS No. 110.

IV. Rule Requirements: Paragraph S4.4.2(e) of FMVSS No. 110 titled “Rim Markings for Vehicles Other than Passenger Cars” includes the requirements relevant to this petition:

• Each rim or, at the option of the manufacturer in the case of a single-piece wheel, each wheel disc shall be marked with the information listed in paragraphs S4.4.2 (a) through (e), in lettering not less than 3 millimeters in height, impressed to a depth or, at the option of the manufacturer, embossed to a height of not less than 0.125 millimeters.

• The month, day and year or the month and year of manufacture, expressed either numerically or by use of a symbol, at the option of the manufacturer. For example: “September 4, 2001” may be expressed numerically as: “90401”, “904, 01” or “01, 904”; “September 2001” may be expressed as: “901”, “9, 01” or “01, 9”.

• Any manufacturer that elects to express the date of manufacture by means of a symbol shall notify NHTSA in writing of the full names and addresses of all manufacturers and brand name owners utilizing that symbol and the name and address of the trademark owner of that symbol, if any.

• The notification shall describe in narrative form and in detail how the month, day, and year or the month and year are depicted by the symbol. Such description shall include an actual size graphic depiction of the symbol, showing and/or explaining the interrelationship of the component parts of the symbol as they will appear on the rim or single piece of wheel disc, including dimensional specifications, and where the symbol will be located on the rim or single piece wheel disc.

• The notification shall be received by NHTSA not less than 60 calendar days before the first use of the symbol.

V. Summary of GM's Petition: GM described the subject noncompliance and stated its belief that the noncompliance is inconsequential as it relates to motor vehicle safety.

In support of its petition, GM submitted the following reasons:

(a) This is not a safety issue: Neither the marking method nor the timely disclosure of it to NHTSA have any effect on the operation, performance, or safety of the affected vehicles. For example, the required date marks do not serve any safety purpose and do not provide any safety benefit. The purpose of the date mark is traceability in the event a future wheel defect is discovered. For example, if it were discovered that Dicastal wheels manufactured in January 2015 had a defect (e.g., high porosity in the casting) a dealer could use the date marking to determine if a given wheel was in the suspect population.

The affected wheels on GM's vehicles have accurate date markings and can be traced in the event of a defect. Except for a small percentage of affected wheels, the markings have all been disclosed to NHTSA. Disclosed or not, however, GM and its dealers can still trace the wheels because the unregistered date marks contain sufficient information to clearly identify the month and year of manufacture. Therefore, the issue is more of a procedural one, and the fact that these date marks were not registered with NHTSA in a timely manner presents no substantive safety issue and is inconsequential to motor vehicle safety.

(b) NHTSA has granted similar requests: Granting this petition would be consistent with NHTSA's past decisions involving wheel markings required by FMVSS No. 110. For example, NHTSA recently granted a petition for inconsequential treatment related to a noncompliance with FMVSS No. 110's requirement that the source of the published nominal dimensions be marked on the rims. In that case, NHTSA agreed that the incorrect rim marking had no effect on the performance and safety of the tire/rim combination. Here, the connection to safety is even more attenuated because the markings on the wheels are correct, they were just not disclosed to NHTSA in a timely manner. For at least the same reasons NHTSA found incorrect rim markings inconsequential to vehicle safety, GM requests that NHTSA come to the same conclusion regarding the correct, but unregistered, markings in this case as being inconsequential to motor vehicle safety.

(c) The issue has been corrected: Dicastal corrected the issue in production on April 25, 2015, when it stopped using unregistered date marks. Since then, the manufacture date marks on GM's Dicastal wheels have been properly disclosed to NHTSA and comply with FMVSS No. 110.

GM concluded by expressing the belief that the subject noncompliance is inconsequential as it relates to motor vehicle safety, and that its petition to be exempted from providing notification of the noncompliance, as required by 49 U.S.C. 30118, and a remedy for the noncompliance, as required by 49 U.S.C. 30120, should be granted.

GM's complete petition and all supporting documents are available by logging onto the Federal Docket Management System (FDMS) website at: https://www.regulations.gov and following the online search instructions to locate the docket number listed in the title of this petition.

NHTSA Decision

NHTSA Analysis: FMVSS No. 110, paragraph S4.4.2(e), requires that a manufacturer using a symbol to identify the date of manufacture on its rims provide a detailed narrative to NHTSA of how the month, day and year, or month and year, are depicted by the symbol, and notify NHTSA not less than 60 calendar days before the first use of the symbol. In this case, GM did not properly submit the symbol information or notify NHTSA before first use.

GM pointed out that the actual marking method nor the timely disclosure of the method to NHTSA would have any effect on the operation, performance, or safety of the affected vehicles and that the main reason for date codes on rims is for traceability in the event of a recall. NHTSA would agree that date of manufacture stamped on the rim, if correct, is essential for identifying production scope in the event of a recall, but the marking itself does not affect the performance and safety of the rims. Since this issue was brought to the attention of the agency, GM has submitted the required notification and details of the date symbols used on the impacted vehicle rims, and the agency confirmed that the symbols used provide the month and year information required.

GM concluded by noting the fact that the issue was corrected in production on April 25, 2015. Dicastal subsequently registered the marking method(s) by filing the required submission with NHTSA on May 13, 2015.

NHTSA's Decision: In consideration of the foregoing, NHTSA has decided that GM has met its burden of persuasion that the subject FMVSS No. 110 noncompliance is inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that GM no longer controlled at the time it determined that the noncompliance existed. However, granting of this petition does not relieve vehicle distributors and dealers of the prohibitions on the sale, offer for sale, or introduction or delivery for introduction into interstate commerce of the noncompliant vehicles under their control after GM notified them that the subject noncompliance existed.

Authority: 49 U.S.C. 30118, 30120: delegations of authority at 49 CFR 1.95 and 501.8.

Claudia W. Covell,
Acting Director, Office of Vehicle Safety Compliance.

[FR Doc. 2018-07827 Filed 4-13-18; 8:45 am]

BILLING CODE 4910-59-P